DEPARTMENT OF TRANSPORTATION

Federal Aviation Administration

14 CFR Part 73

[Docket No. FAA-2015-0739; Airspace Docket No. 14-AWP-11]

RIN 2120-AA66

Proposed Modification of Restricted Area R-7201; Farallon De Medinilla Island; Mariana Islands, GU

AGENCY: Federal Aviation Administration (FAA), DOT.

ACTION: Notice of proposed rulemaking (NPRM).

SUMMARY: This action proposes to expand the lateral boundary of restricted area R-7201, Farallon De Medinilla Island, Mariana Islands, GU. The expanded restricted airspace would be used to support strategic and attack bombing, close air support bombing, naval gunfire, and strafing and special operations training. This action also proposes to rename the restricted area from R-7201 to R-7201A.

DATES: Comments must be received on or before October 9, 2015.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-0739 and Airspace Docket No. 14-AWP-11, at the beginning of your comments. You may also submit comments through the Internet at www.regulations.gov. Comments on environmental and land use aspects should be directed to: Naval Facilities Engineering Command Pacific, Attention: MIRC Airspace EA/OEA Project Manager, 258 Makalapa Drive, Suite 100, Pearl Harbor, HI 96860-3134.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the restricted area airspace at Farallon De Medinilla Island, Mariana Islands, GU, to enhance aviation safety and accommodate essential U.S. Navy training requirements.

Background

The Department of the Navy is seeking to expand R-7201 out from its current 3-nautical mile (NM) radius to a 12-NM radius. The proposed action is needed in order to support training activities that involve the use of advanced weapons systems which the current airspace does not sufficiently and safely provide. The Navy and other services require fully capable training and testing range complexes (land, sea, and airspace) that provide realistic and controlled environments with sufficient surface Danger Zones (DZs) and Special Use Airspace vital for safety and mission success.

Farrallon de Medinilla (FDM) consists of the island land mass and the restricted airspace designated R-7201. The land mass is approximately 1.7 miles long and 0.3 miles wide. It contains a live-fire and inert bombing range and supports live-fire and inert engagements such as surface-to-ground and air-to-ground gunnery, bombing and missile exercises, fire support, and precision weapons. Restricted Area R-7201 surrounds FDM and the surrounding waters within a 3-NM radius from center extending from the surface to Flight Level (FL) 600. FDM and R-7201 are the Department of Defense's (DOD) only United States controlled range in the western Pacific available to forward-deployed forces for live-fire and inert training. For this reason, it plays a unique role in national defense. R-7201's location is ideal for access and availability and its relative isolation facilitates a variety of attack profiles.

Due to Guam and the Commonwealth of the Northern Mariana Islands' (CNMI) strategic location and DOD's ongoing reassessment of the Western Pacific military alignment, there has been a dramatic increase in the importance of the Mariana Islands Range Complex (MIRC) as a training venue and its capabilities to support required military training. Flight training profiles, altitudes and speed are severely restricted to ensure containment due to the small size of the current restricted area. In order to fully exploit the capabilities of modern weapons systems and provide the required training scenarios that replicate conditions encountered during deployments today, it is necessary to expand R-7201 laterally. This action would enable the military to continue to achieve and maintain service readiness using the MIRC to support and conduct current, emerging, and future training activities. The proposed R-7201 expansion would support naval gun fire training, readiness and the utilization of advanced lasers with Nominal Ocular Hazard Distance that exceed the current 3 NM constraints of the existing airspace. Additionally, the expansion would serve to support the U.S. Air Force's Intelligence, Surveillance and Reconnaissance (ISR)/Strike program. It is anticipated that a 45 percent increase in operations and training would occur within the expanded airspace and will accommodate an increased training tempo, newer aircraft and weapon systems that are commensurate with the ISR/Strike mission that the current airspace cannot support.

The Navy has leased FDM from CNMI since 1971 and in 1983 negotiated a 50-year lease with an option to renew for another 50 years. No maneuver training is permitted on FDM and the nearshore waters are leased to the U.S. for military purposes, specifically for use as a live fire naval gunfire and air warfare air strike training range. As such, FDM and its nearshore area have always been an off-limits area to all personnel both civilian and military due to unexploded ordnance concerns. In addition to the proposed R-7201 expansion, the DZ around FDM would be expanded to 12 NM to align with the proposed restricted airspace. The DZ would restrict all private and commercial vessels from entering the area only when hazardous activities are scheduled.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0739 and Airspace Docket No. 14-AWP-11) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2015-0739 and Airspace Docket No. 14-AWP-11.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Western Service Center, Federal Aviation Administration, 1601 Lind Ave. SW., Renton, WA 98057.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to 14 CFR part 73 to expand the lateral dimensions of restricted area R-7201, Farallon De Medinilla Island, Mariana Islands, GU and rename it R-7201A. The proposed R-7201A would be the minimum size required for containing stand-off weapons employment, naval gun fire training, and laser activities conducted there. The actual usage of the restricted area is estimated to be 4-5 days per week, 3-6 hours per day with 1,680 sorties per year.

The proposed R-7201A boundary would extend the current boundary from 3 NM to 12 NM from latitude 16°01′04″ N., longitude 146°03′31″ E.

Regulatory Notices and Analyses

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 is amended to read as follows:

Authority: 49 U.S.C. 106(f), 106(g); 40103, 40113, 40120; E.O. 10854, 24 FR 9565, 3 CFR, 1959-1963 Comp., p. 389.

§ 73.72 Guam [Amended]

2. § 73.72 is amended as follows:

R-7201 Farallon De Medinilla Island Mariana Islands, GU [Removed]

R-7201A Farallon De Medinilla Island Mariana Islands, GU [New]

Boundaries: Beginning at latitude 16°01′04″ N., longitude 146°03′31″ E.; extending outward in a 12 NM radius.

Altitudes: Surface up to and including FL 600.

Times of Use: As scheduled by NOTAM 12 hours in advance.

Controlling Agency: FAA, Guam Center/Radar Approach Control.

Using Agency: Commander, Naval Forces, Marianas.

Issued in Washington, DC, on August 19, 2015.
Gary A. Norek,
Manager, Airspace Policy and Regulations Group.

[FR Doc. 2015-21084 Filed 8-24-15; 8:45 am]

BILLING CODE 4910-13-P